DEPARTMENT OF THE INTERIOR

Bureau of Land Management

[NV-056-5853-ES; N-81735]

Notice of Realty Action; Recreation and Public Purposes Act Classification in the Las Vegas Valley, Nevada

AGENCY: Bureau of Land Management, Interior.

ACTION: Notice of Realty Action.

SUMMARY: The Bureau of Land Management (BLM) has examined and found suitable for classification for lease or conveyance under the provisions of the Recreation and Public Purposes (R&PP) Act, as amended, 43.87 acres of public land in Las Vegas, Clark County, Nevada. Clark County School District proposes to use the land for development of a public high school.

DATES: On or before October 10, 2006, interested parties may submit comments concerning the proposed lease/conveyance to the BLM Field Manager, Las Vegas Field Office, at the address stated below.

ADDRESSES: Las Vegas Field Office, Bureau of Land Management, 4701 N. Torrey Pines Drive, Las Vegas, Nevada 89130.

FOR FURTHER INFORMATION CONTACT: Brenda Warner, Realty Specialist at (702) 515-5084.

SUPPLEMENTARY INFORMATION: In response to an application submitted by the Clark County School District, the BLM has examined and found suitable for classification for lease or conveyance for public high school purposes under the provisions of the R&PP Act, as amended (43 U.S.C. 869 et seq.), the parcel of public land located in the northeast portion of the Las Vegas Metropolitan Area described below:

Mount Diablo Meridian, Nevada

T. 20 S., R. 62 E.

Sec. 14, lot 6.

The area described contains 43.87 acres in Clark County.

The design and architecture of the proposed high school will be similar to that of Arbor View High School which is located at Buffalo Drive and Grand Teton Drive, Las Vegas Nevada. Construction will take approximately one year and begin shortly after the lease is authorized. The land is not required for any Federal purpose. Lease/conveyance is consistent with the Las Vegas Resource Management Plan dated October 5, 1998, and would be in the public interest. The lease/conveyance, when issued, will be subject to the provisions of the R&PP Act and applicable regulations of the Secretary of the Interior and will contain the following reservations to the United States:

1. A right-of-way thereon for ditches and canals constructed by the authority of the United States, Act of August 30, 1890 (43 U.S.C. 945).

2. All minerals shall be reserved to the United States, together with the right to prospect for, mine and remove such deposits from the same under applicable law and such regulations as the Secretary of the Interior may prescribe.

And will be subject to:

1. Valid and existing rights;

2. Right-of-way N-1521 for the Southern Nevada Water Project granted to the Bureau of Reclamation, its successors or assigns, pursuant to the Act of December 5, 1924 (43 Stat 0672);

3. Right-of-way N-29996 for underground power distribution lines granted to Nevada Power Co., its successors or assigns, pursuant to the Act of October 21, 1976 (43 U.S.C. 1761);

4. Right-of-way N-39448 for roads, utilities and drainage system pursuant to the Act of December 5, 1924 (43 Stat 0672); and

5. Right-of-way Nev-061252 for a water retention facility granted to the City of North Las Vegas, its successors or assigns, pursuant to the Act of February 2, 1901 (43 U.S.C. 959).

Detailed information concerning this action is available for review at the BLM Las Vegas Field Office at the address stated above.

Upon publication of this notice in the Federal Register, the above described land is segregated from all other forms of appropriation under the public land laws, including the general mining laws, except for lease/conveyance under the R&PP Act, leasing under the mineral leasing laws, and disposal under the mineral material disposal laws.

Classification Comments: Interested parties may submit comments involving the suitability of the land for a public high school site. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for a public high school site.

Comments received during this process, including respondent's name, address, and other contact information, will be available for public review. Individual respondents may request confidentiality. If you wish to request that BLM consider withholding your name, address, and other contact information from public review or disclosure under the Freedom of Information Act, you must state this prominently at the beginning of your comment. The BLM will honor requests for confidentiality on a case-by-case basis to the extent allowed by law. The BLM will make available for public review, in their entirety, all comments submitted by businesses or organizations, including comments by individuals in their capacity as an official or representative of a business or organization. Any adverse comments will be reviewed by the BLM, Nevada State Director. In the absence of any adverse comments, the classification will become effective on October 24, 2006. The lands will not be offered for lease/conveyance until after the classification becomes effective.

(Authority: 43 CFR Part 2741)

Dated: July 18, 2006.
Sharon DiPinto,
Assistant Field Manager, Division of Lands, Las Vegas, NV.

[FR Doc. E6-14095 Filed 8-24-06; 8:45 am]

BILLING CODE 4310-HC-P